DEPARTMENT OF THE INTERIOR

Fish and Wildlife Service

[FWS-R9-FHC-2011-N037; 94300-1122-0000-Z2]

RIN 1018-AX45

Fisheries and Habitat Conservation and Migratory Birds Programs; Draft Land-Based Wind Energy Guidelines; Correction

AGENCY: Fish and Wildlife Service, Interior.

ACTION: Notice of availability; correction.

SUMMARY: We, the U.S. Fish and Wildlife Service (Service), published a notice in the Federal Register on February 18, 2011, announcing the availability for public comment of draft Land-Based Wind Energy Guidelines (Guidelines). We are issuing a correction to that notice because we believe it gave the erroneous impression the draft Guidelines are ready for public use. However, our intention was for the notice to only announce the availability of draft Guidelines for public comment. We will publish the final Guidelines for public use after consideration of any comments received. We hereby amend the SUMMARY and DATES captions to clarify our intention.

DATES: This correction is effective March 2, 2011.

FOR FURTHER INFORMATION CONTACT: Christy Johnson-Hughes, Division of Habitat and Resource Conservation, U.S. Fish and Wildlife Service, Department of the Interior, (703) 358-1922. Individuals who are hearing-impaired or speech-impaired may call the Federal Relay Service at 1-800-877-8337 for TTY assistance, 24 hours a day, 7 days a week.

SUPPLEMENTARY INFORMATION:

Background

We published a notice in the Federal Register on February 18, 2011 (76 FR 9590), announcing the availability for public comment of draft Guidelines. The document contained some incorrect statements in the SUMMARY and DATES captions. We regret any confusion they may have caused.

The SUMMARY caption included this sentence: “These draft Guidelines are intended to supersede the Service's 2003 voluntary, interim guidelines for land-based wind development.” In addition, the DATES caption indicated that the draft Guidelines would be effective February 18, 2011. However, the draft Guidelines we made available on February 18 are a draft version and not final. They do not supersede the Service's 2003 Interim Guidance on Avoiding and Minimizing Wildlife Impacts from Wind Turbines (Interim Guidance).

As stated in the notice, the comment period on the draft Guidelines will close May 19, 2011. We expect to issue final Guidelines for public use after consideration of any public comments received. The final Guidelines will become effective after publication of a notice of availability in the Federal Register and will supersede the Interim Guidance.

Correction

In the Federal Register of February 18, 2011, in FR Doc. 2011-3699, on page 9590, in the first and second columns, correct the SUMMARY and DATES captions to read as follows:

SUMMARY: We, the U.S. Fish and Wildlife Service (Service), announce the availability for public comment of draft Land-Based Wind Energy Guidelines (Guidelines). These draft Guidelines do not supersede the Service's 2003 Interim Guidance on Avoiding and Minimizing Wildlife Impacts from Wind Turbines. We expect to issue final Guidelines for public use after consideration of any public comments received. The final Guidelines will become effective after publication of a notice of availability in the Federal Register. The final Guidelines will supersede the Service's 2003 Interim Guidance on Avoiding and Minimizing Wildlife Impacts from Wind Turbines.

DATES: We must receive any comments or suggestions on the draft Guidelines by the end of the day on May 19, 2011.

Dated: February 24, 2011.
Jeffrey L. Underwood,
Deputy Assistant Director, Fisheries and Habitat Conservation.

[FR Doc. 2011-4611 Filed 3-1-11; 8:45 am]

BILLING CODE 4310-55-P